NUCLEAR REGULATORY COMMISSION

[ Docket Nos. 50-247 and 50-286]

Entergy Nuclear Operations, Inc.; Notice of Receipt and Availability of Application for Renewal of Indian Point Nuclear Generating Unit Nos. 2 and 3; Facility Operating License Nos. DPR-26 and DPR-64 for an Additional 20-Year Period

The U.S. Nuclear Regulatory Commission (NRC or Commission) has received an application, dated April 23, 2007, as supplemented by letter dated May 3, 2007, from Entergy Nuclear Operations, Inc., filed pursuant to Section 104b of the Atomic Energy Act of 1954, as amended, and Title 10 of the Code of Federal Regulations Part 54 (10 CFR part 54), to renew the operating licenses for the Indian Point Nuclear Generating Unit Nos. 2 and 3. Renewal of the licenses would authorize the applicant to operate the facility for an additional 20-year period beyond the period specified in the current operating licenses. The current operating licenses for the Indian Point Nuclear Generating Unit Nos. 2 and 3 (DPR-26 and DPR-64) expire on September 28, 2013, and December 12, 2015, respectively. The Indian Point Nuclear Generating Unit Nos. 2 and 3 are Pressurized Water Reactors designed by Westinghouse. The units are located in Buchanan, NY. The acceptability of the tendered application for docketing, and other matters including an opportunity to request a hearing, will be the subject of subsequent Federal Register notices. Copies of the application are available for public inspection at the Commission's Public Document Room (PDR), located at One White Flint North, 11555 Rockville Pike (first floor), Rockville, Maryland 20852 or electronically from the NRC's Agencywide Documents Access and Management System (ADAMS) Public Electronic Reading Room under accession number ML071210507. The ADAMS Public Electronic Reading Room is accessible from the NRC's Web site at http://www.nrc.gov/reading-rm/adams.html. In addition, the application is available at http://www.nrc.gov/reactors/operating/licensing/renewal/applications.html, on the NRC's Web page, while the application is under review. Persons who do not have access to ADAMS or who encounter problems in accessing the documents located in ADAMS should contact the NRC's PDR Reference staff at 1-800-397-4209, extension 301-415-4737, or by e-mail to pdr@nrc.gov.

A copy of the license renewal application for the Indian Point Nuclear Generating Unit Nos. 2 and 3 is also available to local residents near the Indian Point Nuclear Generating Units at the following three public libraries: the White Plains Public Library, 100 Martine Avenue, White Plains, NY 10601; the Field Library, 4 Nelson Avenue, Peekskill, NY 10566; and the Hendrick Hudson Free Library, 185 Kings Ferry Road, Montrose, NY 10548.

Dated at Rockville, Maryland, this 7th day of May, 2007.
For the Nuclear Regulatory Commission.
P.T. Kuo,
Director, Division of License Renewal, Office of Nuclear Reactor Regulation.

[FR Doc. E7-9123 Filed 5-10-07; 8:45 am]

BILLING CODE 7590-01-P